DEPARTMENT OF LABOR

Employment and Training Administration

[TA-W 55,067]

Intier Automotive, Auburn Hills, MI; Notice of Termination of Investigation

Pursuant to section 221 of the Trade Act of 1974, as amended, an investigation was initiated on June 10, 2004, in response to a petition filed by a company official on behalf of workers at Intier Automotive, Auburn Hills, Michigan.

The petitioner has requested that the petition be withdrawn. Consequently, the investigation has been terminated.

Signed at Washington, DC, this 18th day of June, 2004.
Richard Church,
Certifying Officer, Division of Trade Adjustment Assistance.

[FR Doc. 04-15315 Filed 7-6-04; 8:45 am]

BILLING CODE 4510-30-P